DEPARTMENT OF TRANSPORTATION

Federal Highway Administration

Federal Transit Administration

Review of National Environmental Policy Act Categorical Exclusion Survey Posted on DOT/FHWA Web Site

AGENCY: Federal Highway Administration (FHWA), Federal Transit Administration (FTA), DOT.

ACTION: Notice of availability.

SUMMARY: In accordance with section 1318(a)(2) of the Moving Ahead for Progress in the 21st Century Act (MAP-21) the FHWA and the FTA have surveyed the use of Categorical Exclusions (CE) by the Department in transportation projects since 2005, described the types of actions categorically excluded and any requests previously received by the Secretary for new CEs, and completed a solicitation of requests for new CEs from State departments of transportation (SDOT), transit authorities, metropolitan planning organizations (MPO), or other government agencies. This survey review captures the results of these activities.

The FHWA and FTA are issuing this notice to advise the public that the CE survey review is now available on the FHWA Web site, http://www.fhwa.dot.gov/map21, and FTA Web site, http://www.fta.dot.gov/map21.

DATES: These reports were posted on the Web site on December 7, 2012.

ADDRESSES: The CE survey review is posted on the FHWA Web site at: http://www.fhwa.dot.gov/map21.

FOR FURTHER INFORMATION CONTACT: Owen Lindauer, Ph.D., Office of Project Delivery and Environmental Review (HEPE), (202) 366-2655, or Jomar Maldonado, Office of the Chief Counsel (HCC), (202) 366-1373, Federal Highway Administration, 1200 New Jersey Ave. SE., Washington, DC 20590-0001. For the Federal Transit Administration: Megan Blum, Office of Planning and Environment (TPE), (202) 366-0463, or Dana Nifosi, Office of Chief Counsel (TCC), (202) 366-4011. Office hours are from 8:00 a.m. to 4:30 p.m. e.t., Monday through Friday, except Federal holidays.

SUPPLEMENTARY INFORMATION: Section 1318 of MAP-21 (112 Pub. L. 141, 126 Stat. 405) requires a survey of CE use for transportation projects since 2005, a description of CE actions and any requests for new CEs received by the Secretary since 2005, and a solicitation request for new CEs from a variety of stakeholders. The statute requires publication of the survey.

To comply with the survey requirement, the FHWA and FTA reviewed the administrative records of rulemakings for new FHWA and/or FTA CEs since 2005 and in the Department's review of regulations in 2011. The administrative records for the rulemakings included Notice of Proposed Rulemakings (NPRM), public comments on these rulemakings, and as final rules associated with these NPRMs, as applicable (72 FR 44038 (Aug. 7, 2007), Docket No. FTA-2006-26604 and 77 FR 15310 (Mar. 15, 2012), Docket No. FTA-2011-0056). In addition, FHWA and FTA reviewed requests for new CEs received as a part of the assessment of Federal regulations in response to the President's Executive Order 13563 (Improving Regulation and Regulatory Review, January 18, 2011). The request for new CEs was documented in the Retrospective Review and Analysis of Existing Rules (Department of Transportation, August 2011). Also, in September 2012, the Secretary sent a questionnaire, OMB Control No. 2125-0632, to SDOTs, transit authorities, MPOs, local public agencies, and federally recognized Tribal Governments asking for actions they request for consideration as new CEs through rulemaking.

The questionnaire asked SDOTs, transit authorities, MPOs, and federally recognized Tribal Governments to provide information on:

• CEs processed as a part of the NEPA for transportation projects since 2005;

• Types of actions categorically excluded;

• Requests previously received by the Secretary of Transportation for new CEs that are not currently in regulation; and

• Requests for new CEs.

The Secretary sent the invitation to participate in the survey electronically to 1,511 individuals from SDOTs, transit authorities, MPOs, and federally recognized Tribal Governments. The survey period ran from September 5, 2012, through October 9, 2012. Responses were collected online and through email. Respondents were encouraged to provide electronic documents and other materials to supplement their answers. Five hundred twenty-two individuals responded to the questionnaire. The SDOT respondents represented 40 States, the District of Columbia, and Puerto Rico.

The FHWA and FTA have compiled the responses and completed the MAP-21 survey report. The purpose of this notice is to comply with the publication requirement for the survey report. The report is available online at www.fhwa.dot.gov/map21 and http://www.fta.dot.gov/map21.

Authority: Sec. 1318(a)(2), Pub. L. 112-141, 126 Stat. 405 (2012).

Issued on: December 7, 2012.
Victor Mendez,
Administrator, Federal Highway Administration.
Peter Rogoff,
Administrator, Federal Transit Administration.

[FR Doc. 2012-30085 Filed 12-12-12; 8:45 am]

BILLING CODE 4910-22-P